DEPARTMENT OF COMMERCE

International Trade Administration

[A-475-059]

Pressure Sensitive Plastic Tape from Italy: Final Results of Expedited Fourth Sunset Review of the Antidumping Duty Finding

AGENCY: Enforcement and Compliance, International Trade Administration, Department of Commerce.

SUMMARY: As a result of this review, the Department of Commerce (the Department) finds that revocation of the antidumping duty finding on pressure sensitive plastic tape (PSP tape) from Italy would be likely to lead to continuation or recurrence of dumping at the levels indicated in the “Final Results of Sunset Review” section of this notice.

DATES: Effective Date: July 8, 2015.

FOR FURTHER INFORMATION CONTACT: Terre Keaton Stefanova, AD/CVD Operations, Office II, Enforcement and Compliance, International Trade Administration, U.S. Department of Commerce, 14th Street & Constitution Avenue NW., Washington, DC 20230; telephone: (202) 482-1280.

SUPPLEMENTARY INFORMATION

Background

On March 2, 2015, the Department published the notice of initiation of the fourth sunset review of the antidumping finding on PSP tape from Italy pursuant to section 751(c) of the Tariff Act of 1930, as amended (the Act).¹ On March 17, 2015, the Department received a notice of intent to participate in this review from the following domestic producers of PSP tape: 3M Company, Intertape Polymer Group Inc., and Shurtape Technologies LLC (collectively, the petitioners), within the deadline specified in 19 CFR 351.218(d)(1)(i). The petitioners claimed interested party status under section 771(9)(C) of the Act, as manufacturers, producers, or wholesalers of a domestic like product in the United States. On April 1, 2015, we received a complete substantive response from the petitioners within the 30-day deadline specified in 19 CFR 351.218(d)(3)(i).² We received no substantive responses from any respondent interested parties. As a result, pursuant to section 751(c)(3)(B) of the Act and 19 CFR 351.218(e)(1)(ii)(C)(2), the Department conducted an expedited (120-day) sunset review of the finding.

¹ See Initiation of Five-Year (“Sunset”) Review, 80 FR 11164 (March 2, 2015).

² See April 1, 2015, letter from the petitioners regarding Pressure Sensitive Plastic Tape from Italy: Substantive Response to Notice of Initiation.

Scope of the Finding

The merchandise subject to the finding is pressure sensitive plastic tape. The merchandise subject to the finding is classifiable under subheadings 3919.90.20 and 3919.90.50 of the Harmonized Tariff Schedule of the United States (HTSUS). Although the HTSUS subheadings are provided for convenience and for customs purposes, our written description of the scope of this finding is dispositive.³

³ A full description of the scope of the finding is contained in the memorandum to Paul Piquado, Assistant Secretary for Enforcement and Compliance, from Christian Marsh, Deputy Assistant Secretary for Antidumping and Countervailing Duty Operations, “Issues and Decision Memorandum for the Final Results of the Fourth Expedited Sunset Review of the Antidumping Duty Finding on Pressure Sensitive Plastic Tape from Italy” (Issues and Decision Memorandum), dated concurrently with these results and hereby adopted by this notice.

Analysis of Comments Received

All issues raised in this review are addressed in the accompanying Issues and Decision Memorandum, which is hereby adopted by this notice, including the likelihood of continuation or recurrence of dumping in the event of revocation and the magnitude of the margins likely to prevail if the finding were revoked. The Issues and Decision Memorandum is a public document and is on file electronically via Enforcement and Compliance's Antidumping and Countervailing Duty Centralized Electronic Service System (ACCESS). ACCESS is available to registered users at http://access.trade.gov, and to all parties in the Central Records Unit, room B8024 of the main Department of Commerce building. In addition, a complete version of the Issues and Decision Memorandum can be accessed directly on the Internet at http://enforcement.trade.gov/frn/. The signed Issues and Decision Memorandum and the electronic version of the Issues and Decision Memorandum are identical in content.

Final Results of Sunset Review

Pursuant to sections 751(c)(1) and 752(c)(1) and (3) of the Act, we determine that revocation of the antidumping duty finding on PSP tape from Italy would be likely to lead to continuation or recurrence of dumping, and that the magnitude of the margin of dumping likely to prevail would be 3.70 percent for all producers and exporters ⁴ of subject merchandise.

⁴ Plasturopa-SIPA S.a.S, Autodesivitalia, S.p.A and Boston S.p.A are excluded from the finding.

Notification to Interested Parties

This notice serves as the only reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing these results and notice in accordance with sections 751(c), 752(c), and 777(i)(1) of the Act and 19 CFR 351.218.

Dated: June 30, 2015.
Paul Piquado,
Assistant Secretary for Enforcement and Compliance.

Appendix—List of Topics Discussed in the Issues and Decision Memorandum

I. Summary

II. Background

III. Scope of the Finding

IV. History of the Finding

V. Legal Framework

VI. Discussion of the Issues

A. Likelihood of Continuation or Recurrence of Dumping

B. Magnitude of the Margins of Dumping Likely to Prevail

VII. Final Results of Sunset Review

VIII. Recommendation

[FR Doc. 2015-16745 Filed 7-7-15; 8:45 am]

BILLING CODE 3510-DS-P